SMALL BUSINESS ADMINISTRATION

[License No. 06/76-0329]

Pharos Capital Partners II, L.P.; Notice Seeking Exemption Under Section 312 of the Small Business Investment Act, Conflicts of Interest

Notice is hereby given that Pharos Capital Partners II, L.P., 1 Burton Hills Boulevard, Suite 180, Nashville, TN 37215, a Federal Licensee under the under the Small Business Investment Act of 1958, as amended (“the Act”), in connection with the sale of an asset to an Associate, has sought an exemption under Section 312 of the Act and Section 107.730, which Constitute Conflicts of Interest of the Small Business Administration (“SBA”) Rules and Regulations (13 CFR 107.730). Pharos Capital Partners II, L.P. proposes to sell its equity interest in MCCI Group Holdings, LLC, 4960 SW 72nd Street, Suite 406, Miami, FL 33155 to Pharos Capital Partners II-A, L.P.

The financing is brought within the purview of § 107.730(a)(1) of the Regulations because Pharos Capital Partners II, L.P. and Pharos Capital Partners II-A, L.P. are considered Associates by virtue of Common Control as defined at 13 CFR 107.50.

Therefore, this transaction is considered self-dealing requiring an exemption. Notice is hereby given that any interested person may submit written comments on the transaction within fifteen days of the date of this publication to the Acting Associate Administrator for Investment, U.S. Small Business Administration, 409 Third Street, SW., Washington, DC 20416.

Dated: April 19, 2010.
Sean Greene,
Associate Administrator for Investment.

[FR Doc. 2010-9762 Filed 4-27-10; 8:45 am]

BILLING CODE P